DEPARTMENT OF LABOR

Employment and Training Administration

Investigations Regarding Eligibility To Apply for Worker Adjustment Assistance

Petitions have been filed with the Secretary of Labor under Section 221(a) of the Trade Act of 1974 (“the Act”) and are identified in the Appendix to this notice. Upon receipt of these petitions, the Director of the Office of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Office of Trade Adjustment Assistance, at the address shown below, no later than January 17, 2017.

Interested persons are invited to submit written comments regarding the subject matter of the investigations to the Director, Office of Trade Adjustment Assistance, at the address shown below, not later than January 17, 2017.

The petitions filed in this case are available for inspection at the Office of the Director, Office of Trade Adjustment Assistance, Employment and Training Administration, U.S. Department of Labor, Room N-5428, 200 Constitution Avenue NW., Washington, DC 20210.

Signed at Washington, DC, this 19th day of December 2016.
Del-Min Amy Chen,
Certifying Officer, Office of Trade Adjustment Assistance.

Appendix
[314 TAA petitions instituted between 9/19/16 and 12/16/16]
TA-W | Subject firm (petitioners) | Location | Date of institution | Date of petition
92217 | Caterpillar Inc. (Company) | Houston, PA | 09/19/16 | 09/16/16
92218 | Nikon Americas, Inc. (State/One-Stop) | Melville, NY | 09/19/16 | 09/16/16
92219 | InFocus Corporation (State/One-Stop) | Portland, OR | 09/19/16 | 09/16/16
92220 | LexisNexis (Company) | Miamisburg, OH | 09/19/16 | 09/16/16
92221 | Wilbur-Ellis (State/One-Stop) | Woodburn, OR | 09/19/16 | 09/16/16
92222 | Harman International Industries, Inc. (Company) | Franklin, KY | 09/19/16 | 09/16/16
92223 | Southern California Edison (State/One-Stop) | Rosemead, CA | 09/19/16 | 09/16/16
92224 | AAH Acquisition, LLC (Workers) | Union City, PA | 09/19/16 | 09/16/16
92224A | AAH Acquisition, LLC (Workers) | Erie, PA | 09/19/16 | 09/16/16
92225 | Fabick Cat (Formerly Fabco) (State/One-Stop) | Negaunee, MI | 09/20/16 | 09/20/16
92226 | Hewlett Packard Enterprise Services, SRM Division (State/One-Stop) | Colorado Springs, CO | 09/20/16 | 09/19/16
92227 | Vertellus Specialties Inc. (Union) | Indianapolis, IN | 09/20/16 | 09/19/16
92228 | Hibu Inc. (State/One-Stop) | Cedar Rapids, IA | 09/20/16 | 09/19/16
92229 | BASF West Memphis (Workers) | West Memphis, AR | 09/21/16 | 09/20/16
92230 | Bruker Daltonics, Inc. (State/One-Stop) | Billerica, MA | 09/21/16 | 09/20/16
92231 | Daimler Trucks North America (Workers) | Mt. Holly, NC | 09/21/16 | 09/01/16
92232 | EAW/Loud Technologies (Company) | Whitinsville, MA | 09/21/16 | 09/14/16
92233 | Multimusic Inc. (State/One-Stop) | Inglewood, CA | 09/21/16 | 09/20/16
92234 | New York Life Insurance Company (State/One-Stop) | New York, NY | 09/21/16 | 08/01/16
92235 | Magnetation LLC (Company) | Reynolds, IN | 09/22/16 | 09/06/16
92236 | MakerBot Industries LLC (State/One-Stop) | Brooklyn, NY | 09/22/16 | 09/06/16
92237 | The Dow Chemical Company (State/One-Stop) | Midland, MI | 09/22/16 | 09/21/16
92238 | Specialty Minerals, Inc. (State/One-Stop) | Wickliffe, KY | 09/22/16 | 09/21/16
92239 | Acelor Mittal LLC (State/One-Stop) | Steelton, PA | 09/22/16 | 09/22/16
92240 | Chemetron (Union) | Steelton, PA | 09/23/16 | 09/22/16
92241 | Airgas USA, LLC (Workers) | Royal Oak, MI | 09/23/16 | 09/22/16
92242 | Masco Cabinetry LLC (State/One-Stop) | Duncanville, TX | 09/26/16 | 09/23/16
92243 | Harman (Company) | Cheney, WA | 09/26/16 | 09/22/16
92243A | Harman (Company) | Elkhart, IN | 09/26/16 | 09/22/16
92244 | Balance Systems, Inc. (Company) | Statesville, NC | 09/26/16 | 09/23/16
92245 | Alstom Power Inc. (Company) | Chattanooga, TN | 09/26/16 | 09/23/16
92246 | Rowan Companies (State/One-Stop) | Houston, TX | 09/27/16 | 09/26/16
92247 | Regal Power Transmission Solutions (Workers) | Monticello, IN | 09/27/16 | 09/26/16
92248 | International Business Machines Corporation (IBM) (State/One-Stop) | Armonk, NY | 09/27/16 | 09/27/16
92249 | Arris Group, Inc. (State/One-Stop) | San Antonio, TX | 09/28/16 | 09/27/16
92250 | IBEX Global (Workers) | Indiana, PA | 09/28/16 | 09/18/16
92251 | Versum Materials US, LLC (Workers) | Allentown, PA | 09/28/16 | 09/09/16
92252 | LDLA Holdings LLC (State/One-Stop) | Los Angeles, CA | 09/28/16 | 09/27/16
92253 | Gulf Offshore Logistics (Workers) | Lafayette, LA | 09/28/16 | 08/28/16
92254 | Mondelez International (State/One-Stop) | San Antonio, TX | 09/28/16 | 09/27/16
92255 | Neenah Northeast, LLC (Union) | Reading, PA | 09/28/16 | 09/16/16
92256 | Ball Corporation (Union) | Weirton, WV | 09/28/16 | 08/30/16
92257 | Hewlett Packard Enterprise (Workers) | Conway, AR | 09/28/16 | 09/27/16
92258 | ATI Titanium LLC (Union) | Skull Valley, UT | 09/28/16 | 09/27/16
92259A | Xerox Business Services (State/One-Stop) | Lexington, KY | 09/28/16 | 09/27/16
92259B | Xerox Business Services (State/One-Stop) | Sandy, UT | 09/28/16 | 09/27/16
92259E | Xerox Business Services (State/One-Stop) | Long Beach, CA | 09/28/16 | 09/27/16
92259C | Xerox Business Services (State/One-Stop) | Highlands Ranch, CO | 09/28/16 | 09/27/16
92259D | Xerox Business Services (State/One-Stop) | Utica, NY | 09/28/16 | 09/27/16
92259 | Xerox Business Services (State/One-Stop) | Webster, NY | 09/28/16 | 09/27/16
92260 | Yelding, Inc. (State/One-Stop) | Naugatuck, CT | 09/28/16 | 09/27/16
92261 | SMC Electrical Products, Inc. (Union) | Huntington, WV | 09/29/16 | 09/26/16
92262 | American Made, LLC (Workers) | Harmony, PA | 09/29/16 | 09/28/16
92263 | Global Payments Inc. (Workers) | Owings Mills, MD | 09/29/16 | 09/26/16
92264 | Barnes & Noble, Inc. (State/One-Stop) | Monroe Township, NJ | 09/29/16 | 09/28/16
92265 | Fastek Products (Company) | Canton, SD | 09/30/16 | 09/29/16
92266 | Rollins Narrow Fabric, Inc. (State/One-Stop) | Pomona, CA | 09/30/16 | 09/29/16
92267 | Rainbow Play Systems, Inc. (Company) | Brookings, SD | 09/30/16 | 09/29/16
92268 | Populus Group (Company) | Troy, MI | 09/30/16 | 09/29/16
92269 | ET Publishing International LLC (Workers) | Virginia Gardens, FL | 09/30/16 | 09/29/16
92270 | JAC Operations, Inc. & Johnstown America, LLC (Workers) | Johnstown, PA | 10/03/16 | 09/30/16
92271 | Thermo Fisher Scientific, Inc. (Workers) | Grand Island, NY | 10/03/16 | 09/30/16
92272 | RBS Citizens Bank National Association (State/One-Stop) | Cranston, RI | 10/03/16 | 10/01/16
92273 | RBS Citizens Bank National Association (State/One-Stop) | New London, CT | 10/03/16 | 10/01/16
92274 | RBS Citizens Bank National Association (State/One-Stop) | Lancaster, PA | 10/03/16 | 10/01/16
92275E | Citizens Bank, NA (State/One-Stop) | Norwood, MA | 10/03/16 | 10/01/16
92275F | Citizens Bank, NA (State/One-Stop) | Medford, MA | 10/03/16 | 10/01/16
92275G | Citizens Bank, NA (State/One-Stop) | Haddon Heights, NJ | 10/03/16 | 10/01/16
92275H | Citizens Bank, NA (State/One-Stop) | Jersey City, NJ | 10/03/16 | 10/01/16
92275I | Citizens Bank, NA (State/One-Stop) | New London, CT | 10/03/16 | 10/01/16
92275 | Citizens Bank, NA (State/One-Stop) | Manchester, NH | 10/03/16 | 10/01/16
92275A | Citizens Bank, NA (State/One-Stop) | Pittsburgh, PA | 10/03/16 | 10/01/16
92275B | Citizens Bank, NA (State/One-Stop) | Holmes, PA | 10/03/16 | 10/01/16
92275C | Citizens Bank, NA (State/One-Stop) | Plymouth Meeting, PA | 10/03/16 | 10/01/16
92275D | Citizens Bank, NA (State/One-Stop) | Lancaster, PA | 10/03/16 | 10/01/16
92276 | RBS Citizens Bank National Association (State/One-Stop) | Medford, MA | 10/03/16 | 10/01/16
92277 | RBS Citizens Bank National Association (State/One-Stop) | Jersey City, NJ | 10/03/16 | 10/01/16
92278 | RBS Citizens Bank National Association (State/One-Stop) | Haddon Heights, NJ | 10/03/16 | 10/01/16
92279 | RBS Citizens Bank National Association (State/One-Stop) | Norwood, MA | 10/03/16 | 10/01/16
92280 | RBS Citizens Bank National Association (State/One-Stop) | Plymouth Meeting, PA | 10/03/16 | 10/01/16
92281 | RBS Citizens Bank National Association (State/One-Stop) | Holmes, PA | 10/03/16 | 10/01/16
92282 | RBS Citizens Bank National Association (State/One-Stop) | Pittsburgh, PA | 10/03/16 | 10/01/16
92283 | RBS Citizens Bank National Association (State/One-Stop) | Pittsburgh, PA | 10/03/16 | 10/01/16
92284 | NetApp, Inc. (State/One-Stop) | Wichita, KS | 10/03/16 | 09/30/16
92285 | PacifiCorp (State/One-Stop) | Portland, OR | 10/03/16 | 09/30/16
92286 | Salem Hospital (State/One-Stop) | Salem, OR | 10/03/16 | 09/30/16
92287 | Selligent, Inc. (State/One-Stop) | Redwood City, CA | 10/03/16 | 09/30/16
92288 | VAM USA (State/One-Stop) | Youngstown, OH | 10/03/16 | 09/30/16
92289 | Prestolite Electric Incorporated (Company) | Arcade, NY | 10/03/16 | 10/03/16
92290 | EVRAZ (Rolling Facility) (State/One-Stop) | Portland, OR | 10/04/16 | 10/03/16
92291 | Inventiv Health (State/One-Stop) | Blue Bell, PA | 10/04/16 | 10/03/16
92292 | Hewlett-Packard Enterprises (State/One-Stop) | Colorado Springs, CO | 10/04/16 | 10/03/16
92293 | Hewlett Packard, Inc. (Workers) | Palo Alto, CA | 10/05/16 | 10/04/16
92293L | Hewlett Packard, Inc. (Workers) | San Jose, CA | 10/05/16 | 10/04/16
92293M | Hewlett Packard, Inc. (Workers) | Aguadilla, PR | 10/05/16 | 10/04/16
92293K | Hewlett Packard, Inc. (Workers) | Vancouver, WA | 10/05/16 | 10/04/16
92293J | Hewlett Packard, Inc. (Workers) | Austin, TX | 10/05/16 | 10/04/16
92293I | Hewlett Packard, Inc. (Workers) | Houston, TX | 10/05/16 | 10/04/16
92293H | Hewlett Packard, Inc. (Workers) | Plano, TX | 10/05/16 | 10/04/16
92293A | Hewlett Packard, Inc. (Workers) | San Diego, CA | 10/05/16 | 10/04/16
92293B | Hewlett Packard, Inc. (Workers) | Fort Collins, CO | 10/05/16 | 10/04/16
92293C | Hewlett Packard, Inc. (Workers) | Alpharetta, GA | 10/05/16 | 10/04/16
92293D | Hewlett Packard, Inc. (Workers) | Boise, ID | 10/05/16 | 10/04/16
92293E | Hewlett Packard, Inc. (Workers) | Rio Rancho, NM | 10/05/16 | 10/04/16
92293F | Hewlett Packard, Inc. (Workers) | New York, NY | 10/05/16 | 10/04/16
92293G | Hewlett Packard, Inc. (Workers) | Corvallis, OR | 10/05/16 | 10/04/16
92294 | Hewlett Packard, Inc. (Workers) | San Deigo, CA | 10/05/16 | 10/04/16
92295 | Hewlett Packard, Inc. (Workers) | San Diego, CA | 10/05/16 | 10/04/16
92296 | Dianevon Furstenberg (Workers) | New York, NY | 10/05/16 | 10/03/16
92297 | Austin Westran LLC (Company) | Byron, IL | 10/05/16 | 10/04/16
92298 | Brillion Iron Works (Company) | Brillion, WI | 10/05/16 | 10/05/16
92299 | American Express (Workers) | Salt Lake City, UT | 10/05/16 | 10/04/16
92300 | GEX, Incorporated (Workers) | Atkinson, NH | 10/05/16 | 10/04/16
92301 | International Business Machines Corporation (IBM) (State/One-Stop) | Tulsa, OK | 10/05/16 | 10/04/16
92302 | Air Systems Components, Inc. (Company) | Ponca City, OK | 10/05/16 | 10/04/16
92303 | Madison Paper Industries (Company) | Madison, ME | 10/05/16 | 10/04/16
92303A | Madison Paper Industries (Company) | Madison, ME | 10/05/16 | 10/04/16
92304 | NYDJ Production, LLC (State/One-Stop) | Vernon, CA | 10/05/16 | 10/04/16
92305 | Sulzer Chemtech USA, Inc. (State/One-Stop) | Tulsa, OK | 10/05/16 | 10/04/16
92306 | Pearson Education (State/One-Stop) | Centennial, CO | 10/05/16 | 10/04/16
92307 | AG Equipment (Workers) | Broken Arrow, OK | 10/06/16 | 10/05/16
92308 | International Business Machines Corporation (IBM) (State/One-Stop) | Armonk, NY | 10/06/16 | 10/06/16
92309 | Illinois Tool Works, Inc. (Company) | New Berlin, WI | 10/07/16 | 10/06/16
92310 | Martinrea Hot Stampings Inc. (Union) | Detroit, MI | 10/07/16 | 10/03/16
92311 | KEMET Foil Manufacturing, LLC (Company) | Knoxville, TN | 10/07/16 | 10/06/16
92312 | ASCO (Company) | Novi, MI | 10/11/16 | 10/07/16
92313 | Ellwood National Crankshaft (Workers) | Irvine, PA | 10/11/16 | 10/11/16
92314 | Cablevision of Litchfield (State/One-Stop) | Shelton, CT | 10/12/16 | 10/11/16
92315 | Hewlett Packard, Inc. (Workers) | San Diego, CA | 10/12/16 | 10/11/16
92316 | Artco Group International, Inc. (AGI Steel) (State/One-Stop) | Hannibal, OH | 10/12/16 | 10/12/16
92317 | INVISTA S.A.R.L. (Company) | Chattanooga, TN | 10/12/16 | 10/10/16
92318 | Vancouver Iron and Steel, Inc. (Company) | Vancouver, WA | 10/12/16 | 10/06/16
92319 | SST Truck Company, LLC (State/One-Stop) | Garland, TX | 10/13/16 | 10/12/16
92319A | SST Truck Company, LLC (State/One-Stop) | Garland, TX | 10/13/16 | 10/12/16
92319B | Navistar, Inc. (State/One-Stop) | Lisle, IL | 10/13/16 | 10/12/16
92320 | Xerox (State/One-Stop) | Rosemont, IL | 10/13/16 | 10/12/16
92321 | Geneva Nitrogen LLC (Workers) | Vineyard, UT | 10/14/16 | 10/13/16
92322 | Siemens Industry, Inc. (Company) | Spring House, PA | 10/14/16 | 10/13/16
92323 | Cleveland Brothers Equipment (Company) | Pittston, PA | 10/14/16 | 10/13/16
92324 | ArcelorMittal-Coatesville (Union) | Coatesville, PA | 10/17/16 | 10/11/16
92325 | ConvaTec (Company) | Greensboro, NC | 10/17/16 | 10/14/16
92326 | Oxford Collections, LF USA, LF Americas (Workers) | Gaffney, SC | 10/17/16 | 10/14/16
92327 | Welch Allyn Inc. (State/One-Stop) | Beaverton, OR | 10/17/16 | 10/14/16
92328 | Market Source, Inc. (State/One-Stop) | Vancouver, WA | 10/18/16 | 10/17/16
92329 | Northern State Metals (State/One-Stop) | Youngstown, OH | 10/18/16 | 10/17/16
92330 | Shoes.com Technologies Inc. (State/One-Stop) | Seattle, WA | 10/18/16 | 10/17/16
92331 | State Street Corporation (State/One-Stop) | Kansas City, MO | 10/18/16 | 10/17/16
92332 | Topson Downs of California, Inc. (State/One-Stop) | Compton, CA | 10/18/16 | 10/17/16
92333 | W.V.T., Inc. (State/One-Stop) | Santa Ana, CA | 10/18/16 | 10/17/16
92334 | State Street (State/One-Stop) | Kansas City, MO | 10/18/16 | 10/17/16
92335 | Titanium Wire Corporation (Workers) | Frackville, PA | 10/19/16 | 10/18/16
92336 | Manhattan Beachwear, Inc. (State/One-Stop) | Cypress, CA | 10/19/16 | 10/18/16
92337 | Numatics Actuator (Company) | Mount Pleasant, TN | 10/19/16 | 10/18/16
92338 | The Boeing Company Mobility (Union) | Ridley Park, PA | 10/19/16 | 10/19/16
92339 | MGM Industrial Supply Company, Incorporated (State/One-Stop) | Ironton, OH | 10/19/16 | 10/18/16
92340 | CompuCom Systems, Inc. (State/One-Stop) | Plano, TX | 10/19/16 | 10/18/16
92341 | Spectrum Glass (Company) | Woodinville, WA | 10/19/16 | 09/23/16
92342 | Volt Information Sciences—Division of Staffing Time and Expense Accounting (State/One-Stop) | Orange, CA | 10/19/16 | 10/18/16
92343 | Elie Tahari (Workers) | New York, NY | 10/20/16 | 10/18/16
92344 | Logic PD (State/One-Stop) | Montevideo, MN | 10/20/16 | 10/19/16
92345 | Mirantis, Inc. (State/One-Stop) | Sunnyvale, CA | 10/20/16 | 10/19/16
92346 | Textron (State/One-Stop) | Wichita, KS | 10/20/16 | 10/19/16
92347 | Prestolite Electric Incorporated (Company) | Arcade, NY | 10/21/16 | 10/20/16
92348 | Baxter Healthcare Corporation (State/One-Stop) | Englewood, CO | 10/21/16 | 10/20/16
92349 | Sanjel USA (State/One-Stop) | Fort Lupton, CO | 10/21/16 | 10/20/16
92349A | Sanjel USA (State/One-Stop) | Denver, CO | 10/21/16 | 10/20/16
92350 | Bosch Rexroth Corporation (Company) | Bethlehem, PA | 10/21/16 | 10/20/16
92351 | Transocean (State/One-Stop) | Houston, TX | 10/21/16 | 10/20/16
92352 | G.E. Mining (Workers) | GlenLyn, VA | 10/21/16 | 10/20/16
92353 | Backer EHP Inc. (State/One-Stop) | Huntington Beach, CA | 10/24/16 | 10/21/16
92354A | Kionix, Inc. (Company) | Ithaca, NY | 10/24/16 | 08/22/16
92354 | Kionix, Inc. (Company) | Ithaca, NY | 10/24/16 | 08/22/16
92355 | Great Lakes Towers LLC (State/One-Stop) | Monroe, MI | 10/25/16 | 10/25/16
92356 | Gunderson/Greenbrier Industries (State/One-Stop) | Portland, OR | 10/25/16 | 10/18/16
92357 | Samson Technologies Corporation (State/One-Stop) | Hauppauge, NY | 10/25/16 | 10/24/16
92358 | Sykes (State/One-Stop) | Eugene, OR | 10/25/16 | 10/17/16
92359 | Mac Fasteners (State/One-Stop) | Paris, AR | 10/25/16 | 10/24/16
92360 | Hubbell Lighting, Inc. (Workers) | Saint Louis, MO | 10/25/16 | 10/24/16
92361 | Union Electric Akers (Union) | Avonmore, PA | 10/25/16 | 10/24/16
92362 | Gibbstown CO2/Dry Ice (State/One-Stop) | Gibbstown, NJ | 10/26/16 | 10/25/16
92363 | ElectroCraft Arkansas, Inc. (State/One-Stop) | Searcy, AR | 10/26/16 | 10/25/16
92364 | GE Dover Products Plant (Union) | Dover, OH | 10/26/16 | 10/25/16
92365 | Belron/Safelite (Workers) | Columbus, OH | 10/27/16 | 10/26/16
92366 | G.E. Mining (Union) | Glen Lyn, VA | 10/27/16 | 10/20/16
92367 | Bridgeville Glass Plant (Union) | Bridgeville, PA | 10/27/16 | 10/26/16
92368 | J. Kinderman and Sons (Workers) | Philadelphia, PA | 10/27/16 | 10/10/16
92369 | Maxim Integrated Products, Inc. (State/One-Stop) | Beaverton, OR | 10/27/16 | 10/26/16
92370 | Wentworth-Douglass Hospital (Workers) | Dover, NH | 10/27/16 | 10/25/16
92371 | ADP, Inc. (State/One-Stop) | Rochester, NY | 10/28/16 | 10/27/16
92372 | Versum Materials US, LLC (State/One-Stop) | Allentown, PA | 10/28/16 | 10/27/16
92373 | Numatics, Inc. (State/One-Stop) | Phoenix, AZ | 10/28/16 | 10/27/16
92374 | Freeman Marine Equipment/Advantec Global (State/One-Stop) | Gold Beach, OR | 10/28/16 | 10/27/16
92375 | Hewlett Packard Enterprise Services (State/One-Stop) | Charlotte, NC | 10/28/16 | 10/27/16
92376 | Transcend Services, Inc. (Workers) | Burlington, MA | 10/28/16 | 10/27/16
92377 | Atlantic Packaging Group, LLC (State/One-Stop) | Norwich, CT | 10/31/16 | 10/28/16
92378 | RAM Industrial Services, LLC (State/One-Stop) | Erie, PA | 10/31/16 | 10/28/16
92379 | Legend Pictures, LLC (State/One-Stop) | Burbank, CA | 10/31/16 | 10/28/16
92380 | International Business Machines Corporation (IBM) (State/One-Stop) | Armonk, NY | 11/02/16 | 11/01/16
92381 | Seagate Technologies, LLC (State/One-Stop) | Cupertino, CA | 11/02/16 | 11/01/16
92382 | Flowserve, Lawrence Pump (Company) | Lawrence, MA | 11/02/16 | 10/28/16
92383 | International Business Machines Corporation (IBM) (State/One-Stop) | Tampa, FL | 11/03/16 | 11/02/16
92384 | Mack/Volvo (Union) | Hagerstown, MD | 11/03/16 | 09/26/16
92385 | ICON Aircraft, Inc. (State/One-Stop) | Vacaville, CA | 11/03/16 | 10/04/16
92386 | MGM Industrial Supply Company, Incorporated (Company) | Ironton, OH | 11/03/16 | 10/06/16
92387 | Xcerra Corporation (Workers) | Milpitas, CA | 11/03/16 | 09/30/16
92388 | Westinghouse Air Brake Technologies Incorporated (Workers) | Wilmerding, PA | 11/03/16 | 11/02/16
92389 | Hiperwall, Inc. (State/One-Stop) | Irvine, CA | 11/03/16 | 11/01/16
92390 | Prairie Mountain Publishing (State/One-Stop) | Boulder, CO | 11/04/16 | 11/03/16
92391 | Cambia Health Solutions, Inc. (State/One-Stop) | Portland, OR | 11/04/16 | 11/03/16
92392 | UBS Financial Services, Inc. (State/One-Stop) | Weehawken, NJ | 11/04/16 | 11/03/16
92393 | Acro Industries, Inc. (State/One-Stop) | Rochester, NY | 11/07/16 | 11/07/16
92394 | XALT Energy (Workers) | Midland, MI | 11/07/16 | 11/04/16
92395 | Medtronic (Company) | Costa Mesa, CA | 11/07/16 | 11/04/16
92396 | Tek-Motive, Inc. (State/One-Stop) | East Haven, CT | 11/07/16 | 11/04/16
92397 | Philips Lumileds (State/One-Stop) | San Jose, CA | 11/07/16 | 11/04/16
92398 | Kahului Trucking and Storage, Inc. (Union) | Kahului, HI | 11/07/16 | 11/03/16
92399 | ATI Primary Titanium Operations (Union) | North Skull Valley, UT | 11/07/16 | 09/27/16
92400 | International Automotive Components (State/One-Stop) | Iowa City, IA | 11/07/16 | 11/05/16
92401 | EMC Corporation (State/One-Stop) | Hopkinton, MA | 11/08/16 | 11/08/16
92402 | International Business Machines Corporation (IBM) (State/One-Stop) | New York, NY | 11/08/16 | 11/07/16
92403 | Convergys Customer Management Group (Workers) | Tamarac, FL | 11/09/16 | 11/03/16
92404 | Yodle Web.com, Inc. (Workers) | Austin, TX | 11/09/16 | 11/08/16
92405 | PTC Inc. (State/One-Stop) | Blaine, MN | 11/09/16 | 11/08/16
92406 | Spirit Aerosystems, Inc. (State/One-Stop) | Tulsa, OK | 11/09/16 | 11/08/16
92407 | Hewlett Packard, Inc. (Workers) | Boise, ID | 11/09/16 | 10/25/16
92408 | Centrex Revenue Solutions (State/One-Stop) | Ellicott City, MD | 11/10/16 | 11/09/16
92409 | GE Packaged Power, Inc. (Company) | Houston, TX | 11/10/16 | 11/09/16
92410 | General Motors, LLC (State/One-Stop) | Warren, OH | 11/10/16 | 11/09/16
92411 | Tronc, Inc. (Company) | Chicago, IL | 11/10/16 | 11/09/16
92412 | Brillion Iron Works (Union) | Brillion, WI | 11/10/16 | 11/04/16
92413 | Hewlett Packard Enterprise (State/One-Stop) | Tulsa, OK | 11/14/16 | 11/10/16
92414 | Baxalta US Inc. (State/One-Stop) | Thousand Oaks, CA | 11/15/16 | 11/14/16
92415 | IBM (State/One-Stop) | Somers, NY | 11/15/16 | 11/14/16
92416 | Harbison Walker International (State/One-Stop) | Fulton, MO | 11/15/16 | 11/14/16
92417 | Motorola Mobility LLC (Workers) | Bedminster, NJ | 11/15/16 | 11/10/16
92418 | U.S. Steel IT Security Administration Group (State/One-Stop) | Pittsburgh, PA | 11/15/16 | 11/14/16
92419 | Instron, Industrial Products Group (Company) | Grove City, PA | 11/16/16 | 11/15/16
92420 | J Brand Inc. (State/One-Stop) | Los Angeles, CA | 11/16/16 | 11/15/16
92421 | Xerox Corporation (Workers) | Rosemont, IL | 11/16/16 | 11/15/16
92422 | Rexnord Industries, LLC (Union) | Indianapolis, IN | 11/16/16 | 11/15/16
92423 | GE Lighting Somerset Glass Plant (Union) | Somerset, KY | 11/17/16 | 11/16/16
92424 | WorleyParsons Group, Inc. (Workers) | Reading, PA | 11/17/16 | 11/16/16
92425 | Regal-Beloit America, Inc (State/One-Stop) | Erwin, TN | 11/17/16 | 11/16/16
92426 | Enervest Employee Services/Enervest LLC (State/One-Stop) | Sonora, TX | 11/17/16 | 11/16/16
92427 | John Crane (State/One-Stop) | Cerritos, CA | 11/17/16 | 11/16/16
92428 | Smith Bits a Schlumberger Company (Company) | Ponca City, OK | 11/18/16 | 11/17/16
92429 | Conwed (Owens Corning) (Union) | Ladysmith, WI | 11/18/16 | 11/16/16
92430 | Entergy Vermont Yankee (State/One-Stop) | Vernon, VT | 11/21/16 | 11/18/16
92431 | CSC (Computer Sciences Corporation) (Workers) | Austin, TX | 11/21/16 | 11/18/16
92432 | Blue Sea Systems Inc. (State/One-Stop) | Bellingham, WA | 11/21/16 | 11/17/16
92433 | Intel (State/One-Stop) | Chandler, AZ | 11/21/16 | 11/18/16
92434 | Federal Republic of Germany (State/One-Stop) | Holloman, NM | 11/21/16 | 11/18/16
92435 | Gardner Denver (State/One-Stop) | Manteca, CA | 11/21/16 | 11/18/16
92436 | Cameron International Corporation (State/One-Stop) | Electra, TX | 11/22/16 | 11/21/16
92437 | Cisco Systems Inc. (State/One-Stop) | San Jose, CA | 11/22/16 | 11/21/16
92438 | Conmet/Consolidated Metco Inc. (State/One-Stop) | Clackamas, OR | 11/22/16 | 11/21/16
92439 | UTC Aerospace Systems (State/One-Stop) | Cleveland, OH | 11/22/16 | 11/21/16
92440 | LexisNexis (State/One-Stop) | Colorado Springs, CO | 11/22/16 | 11/21/16
92441 | Collins Lakeview Sawmill (State/One-Stop) | Lakeview, OR | 11/22/16 | 11/21/16
92442 | Balboa Water Group, LLC (State/One-Stop) | Valencia, CA | 11/22/16 | 11/21/16
92443 | Holloway Sportswear, Inc. (Workers) | Sidney, OH | 11/23/16 | 11/22/16
92444 | Anthelio Health (State/One-Stop) | Dallas, TX | 11/23/16 | 11/14/16
92445 | Knight Dental (State/One-Stop) | Selden, NY | 11/23/16 | 11/23/16
92446 | Sanofi-Aventis LLC (State/One-Stop) | St. Louis, MO | 11/25/16 | 11/23/16
92447 | Sypris Technologies (Company) | Louisville, KY | 11/25/16 | 11/24/16
92448 | Warn Industries (State/One-Stop) | Clackamas, OR | 11/29/16 | 11/28/16
92449 | Apria Health (State/One-Stop) | Overland Park, KS | 11/29/16 | 11/28/16
92450 | Impresa Aerospace, LLC (State/One-Stop) | Wichita, KS | 11/30/16 | 11/29/16
92451 | Atlas Copco Secoroc LLC (Company) | Grand Prairie, TX | 11/30/16 | 11/29/16
92452 | Intel Corporation (State/One-Stop) | DuPont, WA | 11/30/16 | 11/29/16
92453 | NCI Group Inc. DBA Garco (Union) | Airway Heights, WA | 12/01/16 | 11/29/16
92454 | RC Fabricators (State/One-Stop) | Hibbing, MN | 12/02/16 | 12/01/16
92455 | MCG Plastics (State/One-Stop) | Bay City, MI | 12/02/16 | 12/01/16
92456 | EVRAZ Oregon Steel Mill (State/One-Stop) | Portland, OR | 12/02/16 | 12/01/16
92457 | Celestica (State/One-Stop) | Ontario, CA | 12/02/16 | 12/01/16
92458 | Manac Trailers USA, Inc. (State/One-Stop) | Kennett, MO | 12/02/16 | 12/01/16
92459 | Unilever U.S. Inc. (State/One-Stop) | Englewood Cliffs, NJ | 12/05/16 | 12/02/16
92460 | Stillwater Dispatch, Inc. (State/One-Stop) | Kalispell, MT | 12/05/16 | 12/02/16
92461 | Remy USA Industries, LLC (Company) | Bay Shore, NY | 12/05/16 | 12/02/16
92462 | Parker-Hannifin Corporation (State/One-Stop) | Anaheim, CA | 12/05/16 | 12/02/16
92463 | Brayton Point Power Station, LLC (Company) | Somerset, MA | 12/05/16 | 12/05/16
92464 | Ledvance, LLC fka Osram Sylvania Inc. (Company) | Winchester, KY | 12/06/16 | 12/01/16
92465 | GE Inspection Technologies, LP (Company) | Lewistown, PA | 12/06/16 | 12/05/16
92466 | Cypress Semiconductor Corporation (State/One-Stop) | Tigard, OR | 12/07/16 | 12/06/16
92467 | Lufkin-RMT (Company) | Wellsville, NY | 12/07/16 | 12/06/16
92468 | GM Subsystems Manufacturing, LLC (State/One-Stop) | Lansing, MI | 12/07/16 | 12/07/16
92469 | General Motors Corporation (State/One-Stop) | Lansing, MI | 12/07/16 | 12/07/16
92470 | Seat King LLC (State/One-Stop) | Hutchinson, KS | 12/08/16 | 12/07/16
92471 | FCR\First Call Resolution (State/One-Stop) | Independence, OR | 12/08/16 | 12/07/16
92472 | General Motors Subsystems, LLC (State/One-Stop) | Lansing, MI | 12/08/16 | 12/07/16
92473 | International Business Machine (IBM) (Workers) | Armonk, NY | 12/08/16 | 12/07/16
92474 | IBM (State/One-Stop) | Armonk, NY | 12/08/16 | 12/08/16
92475 | Patriot Metal Products, Inc. (Workers) | Berwick, PA | 12/08/16 | 12/08/16
92476 | Swisher International, Inc. (Company) | Jacksonville, FL | 12/09/16 | 12/08/16
92477 | Continental Data Graphics (State/One-Stop) | San Diego, CA | 12/09/16 | 12/08/16
92478 | Pacific Bioscience Laboratories (State/One-Stop) | Redmond, WA | 12/09/16 | 12/08/16
92479 | The Doe Run Company (Company) | Herculaneum, MO | 12/09/16 | 12/08/16
92480 | Thermo Fisher Scientific (State/One-Stop) | West Palm Beach, FL | 12/12/16 | 12/09/16
92481 | Teva Pharmaceuticals USA, Inc. (State/One-Stop) | Pomona, NY | 12/12/16 | 12/09/16
92482 | Optimum Employer Solution (State/One-Stop) | Santa Ana, CA | 12/12/16 | 12/09/16
92483 | Avant Technology (Company) | Pflugerville, TX | 12/12/16 | 12/09/16
92484 | JPMorgan Chase Bank (Workers) | Dallas, TX | 12/13/16 | 12/12/16
92485 | Symantec Corporation (State/One-Stop) | Springfield, OR | 12/13/16 | 12/12/16
92486 | Hewlett Packard Enterprise (State/One-Stop) | Portland, OR | 12/13/16 | 12/12/16
92487 | Carl Zeiss Meditec Inc. (State/One-Stop) | Dublin, CA | 12/13/16 | 11/30/16
92488 | U.S. Textiles (Company) | Heath Springs, SC | 12/14/16 | 12/13/16
92489 | Supergenius Industries, LLC (State/One-Stop) | Oregon City, OR | 12/14/16 | 12/13/16
92490 | Liberty Brass Turning CO (State/One-Stop) | Westbury, NY | 12/14/16 | 12/13/16
92491 | Sappi North America (Company) | Allentown, PA | 12/15/16 | 12/14/16
92492 | Getinge La Calhene USA (State/One-Stop) | Rush City, MN | 12/16/16 | 12/15/16
92493 | Pentair Technical Solutions (Panel Shop) (Company) | Houston, TX | 12/16/16 | 12/15/16
92494 | Health Care Service Corporation (State/One-Stop) | Tulsa, OK | 12/16/16 | 12/16/16
92495 | Clearwater Paper Corp. (State/One-Stop) | Neenah, WI | 12/16/16 | 12/15/16
92496 | Express Employment Professionals (Workers) | Schererville, IN | 12/16/16 | 12/15/16

[FR Doc. 2016-31898 Filed 1-3-17; 8:45 am]

BILLING CODE 4510-FN-P